DEPARTMENT OF ENERGY

Federal Energy Regulatory Commission

Combined Notice of Filings #2

Take notice that the Commission received the following electric corporate filings:

Docket Numbers: EC16-52-000.

Applicants: Twin Eagle Resource Management, LLC,TERM Holdings, LLC.

Description: Application under FPA Section 203 of Twin Eagle Resource Management, LLC, et. al.

Filed Date: 12/14/15.

Accession Number: 20151214-5181.

Comments Due: 5 p.m. ET 1/4/16.

Take notice that the Commission received the following electric rate filings:

Docket Numbers: ER14-1776-006; ER14-474-004.

Applicants: Broken Bow Wind II, LLC, Sempra Generation, LLC.

Description: Updated Market Power Analysis for the Southwest Power Pool Region of Broken Bow Wind II, LLC, et. al.

Filed Date: 12/14/15.

Accession Number: 20151214-5184.

Comments Due: 5 p.m. ET 2/12/16.

Docket Numbers: ER15-949-003.

Applicants: Southwestern Public Service Company.

Description: Compliance filing: 12-14-15_SPS Compliance Filing to be effective 10/20/2014.

Filed Date: 12/14/15.

Accession Number: 20151214-5234.

Comments Due: 5 p.m. ET 1/4/16.

Docket Numbers: ER15-2527-000.

Applicants: Oasis Power, LLC.

Description: Report Filing: Refund Report to be effective N/A.

Filed Date: 12/14/15.

Accession Number: 20151214-5207.

Comments Due: 5 p.m. ET 1/4/16.

Docket Numbers: ER15-2529-000.

Applicants: Censtar Energy Corp.

Description: Report Filing: Refund Report to be effective N/A.

Filed Date: 12/14/15.

Accession Number: 20151214-5204.

Comments Due: 5 p.m. ET 1/4/16.

Docket Numbers: ER16-295-002.

Applicants: Midcontinent Independent System Operator, Inc.

Description: Tariff Amendment: 2015-12-14_SA 1503 NSP-Mankato Sub. 2nd Rev. GIA (G261) to be effective 11/10/2015.

Filed Date: 12/14/15.

Accession Number: 20151214-5186.

Comments Due: 5 p.m. ET 1/4/16.

Docket Numbers: ER16-514-000.

Applicants: AEP Texas North Company.

Description: § 205(d) Rate Filing: TNC-RE Roserock Interconnection Agreement to be effective 11/19/2015.

Filed Date: 12/14/15.

Accession Number: 20151214-5156.

Comments Due: 5 p.m. ET 1/4/16.

Docket Numbers: ER16-515-000.

Applicants: Public Service Company of Oklahoma.

Description: § 205(d) Rate Filing: PSO-Coffeyville Pricing Schedule Filing to be effective 3/1/2016.

Filed Date: 12/14/15.

Accession Number: 20151214-5180.

Comments Due: 5 p.m. ET 1/4/16.

Docket Numbers: ER16-516-000.

Applicants: Power Resources, Ltd.

Description: Tariff Cancellation: Notice of Cancellation of MBR Tariff to be effective 12/15/2015.

Filed Date: 12/14/15.

Accession Number: 20151214-5183.

Comments Due: 5 p.m. ET 1/4/16.

Docket Numbers: ER16-517-000.

Applicants: Shelby County Energy Center, LLC.

Description: Baseline eTariff Filing: Baseline—MBR Tariff to be effective 1/28/2016.

Filed Date: 12/14/15.

Accession Number: 20151214-5185.

Comments Due: 5 p.m. ET 1/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2015.
Nathaniel J. Davis, Sr.,
Deputy Secretary.

[FR Doc. 2015-31963 Filed 12-18-15; 8:45 am]

BILLING CODE 6717-01-P